ENVIRONMENTAL PROTECTION AGENCY

[ER-FRL-9016-5]

Environmental Impact Statements; Notice of Availability

Agency: Office of Federal Activities, General Information (202) 564-7146 or http://www.epa.gov/compliance/nepa/.

Weekly receipt of Environmental Impact Statements

Filed 08/04/2014 Through 08/08/2014

Pursuant to 40 CFR 1506.9.

Notice

Section 309(a) of the Clean Air Act requires that EPA make public its comments on EISs issued by other Federal agencies. EPA's comment letters on EISs are available at: http://www.epa.gov/compliance/nepa/eisdata.html.

EIS No. 20140221, Draft EIS, USFS, ID, Pocatello, Midnight, and Michaud Allotment Management Plan Revisions, Comment Period Ends: 11/12/2014, Contact: Jeffery Hammes (208) 236-7500.

EIS No. 20140222, Draft EIS, NRC, TN, Generic-License Renewal of Nuclear Plants Regarding Sequoyah Nuclear Plant, Units 1 and 2, Comment Period Ends: 09/29/2014, Contact: David Drucker 301-415-6223.

EIS No. 20140223, Draft EIS, FERC, 00, Algonquin Incremental Market Project, Comment Period Ends: 09/29/2014, Contact: Magdalene Suter 202-502-6463.

EIS No. 20140224, Draft EIS, FERC, PR, Aguirre Offshore GasPort Project, Comment Period Ends: 09/29/2014, Contact: Gertrude Johnson 202-502-6692.

EIS No. 20140225, Final EIS, USFS, CA, Tule River Reservation Protection Project, Review Period Ends: 09/22/2014, Contact: Richard Stevens 559-539-2607.

EIS No. 20140226, Final EIS, USACE, NC, Bogue Banks Coastal Storm Damage Reduction, Review Period Ends: 09/15/2014, Contact: Eric K. Gasch 910-251-4553.

EIS No. 20140227, Final EIS, DOE, NY, Champlain Hudson Power Express Transmission Line Project (DOE/EIS-0447), Review Period Ends: 09/15/2014, Contact: Brian Mills 202-586-6287.

EIS No. 20140228, Draft EIS, FTA, CA, Redlands Passenger Rail Project, Comment Period Ends: 09/29/2014, Contact: Dominique Paukowits 415-744-2735.

EIS No. 20140229, Final EIS, DOE, LA, Adoption—Cameron Liquefaction Project, Contact: John Anderson 202-586-0521.

The U.S. Department of Energy (DOE) has adopted the U.S. Federal Energy Regulatory Commission's final EIS #20140133, filed with USEPA 04/30/2014. DOE was a cooperating agency and recirculation of the document is not necessary under Section 1306.3(c) of the CEQ Regulations.

Amended Notices

EIS No. 20140217, Draft Supplement, NNSA, TN, Production of Tritium in a Commercial Light Water Reactor, Comment Period Ends: 09/22/2014, Contact: Curtis Chambellan 505-845-5073.

Revision to the FR Notice Published on 08/08/2014; Comment Period End Date should read 09/22/2014.

Dated: August 12, 2014.
Cliff Rader,
Director, NEPA Compliance Division, Office of Federal Activities.

[FR Doc. 2014-19451 Filed 8-14-14; 8:45 am]

BILLING CODE 6560-50-P